DEPARTMENT OF TRANSPORTATION

National Highway Traffic Safety Administration

[[Docket No. NHTSA-2019-0146; OMB No. 2127-0621]

Agency Information Collection Activities; Submission to the Office of Management and Budget for Review and Approval; Platform Lift Systems for Motor Vehicles, and Platform Lift Installations in Motor Vehicles

AGENCY: National Highway Traffic Safety Administration (NHTSA), Department of Transportation (DOT).

ACTION: Notice and request for comments on a reinstatement of a previously approved information collection.

SUMMARY: In compliance with the Paperwork Reduction Act of 1995 (PRA), this notice (“30-day notice”) announces that the Information Collection Request (ICR) summarized below is being forwarded to the Office of Management and Budget (OMB) for review and approval. The ICR describes the nature of the information collection and its expected burden and is a request for a reinstatement of a previously approved information collection regarding Platform lift systems for motor vehicles, and Platform lift installations in motor vehicles. A Federal Register Notice with a 60-day comment period soliciting comments on this information collection was published on February 6, 2020 (85 FR 7008). No comments were received.

DATES: Comments must be submitted on or November 1, 2021.

ADDRESSES: Written comments and recommendations for the proposed information collection, including suggestions for reducing the burden, should be submitted to the Office of Management and Budget at www.reginfo.gov/public/do/PRAMain. To find this information collection, select “Currently under Review—Open for Public Comment” or use the search function.

FOR FURTHER INFORMATION CONTACT: For additional information or access to background documents, contact Michael Pyne, 202-366-4171, Office of Rulemaking (NRM230), National Highway Traffic Safety Administration, U.S. Dept. of Transportation, 1200 New Jersey Avenue SE, Room W43-457, Washington, DC 20590. Please identify the relevant collection of information by referring to its OMB Control Number.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted to the OMB.

A Federal Register Notice with a 60-day comment period soliciting comments on the following information collection was published on February 6, 2020 (85 FR 7008). No comments were received in response to the 60-day notice.

Title: 49 CFR 571.403, Platform lift systems for motor vehicles, and 49 CFR 571.404, Platform lift installations in motor vehicles.

OMB Control Number: 2127-0621.

Type of Request: Reinstatement with changes of a previously approved information collection.

Type of Review Requested: Regular.

Requested Expiration Date of Approval: Three years from date of approval.

Summary of the Collection of Information: Federal Motor Vehicle Safety Standard (FMVSS) No. 403, Platform lift systems for motor vehicles, establishes minimum performance standards for platform lifts intended for installation in motor vehicles to assist wheelchair users and other persons of limited mobility in entering and exiting a vehicle. The standard's purpose is to prevent injuries and fatalities to passengers and bystanders during the operation of platform lifts. The related standard, FMVSS No. 404, Platform lift installations in motor vehicles, establishes specific requirements for vehicle manufacturers or alterers that install platform lifts in new vehicles. Lift manufacturers must certify that their lifts meet the requirements of FMVSS No. 403 and must declare in the owner's manual, in the installation instructions, and on the operating instruction label, that the lift is certified. Certification of compliance with FMVSS No. 404 is included on the vehicle certification label required on all motor vehicles under 49 CFR part 567. Certain requirements in FMVSS No. 403 and FMVSS No. 404 contain information collections. FMVSS No. 403 requires lift manufacturers to produce an insert that is placed in the vehicle owner's manual and lift installation instructions. Additionally, lift manufacturers must affix either one or two labels to be placed near the controls for the lift. The latter illustrate and describe procedures for operating the lift. NHTSA's estimates of burden and cost to lift manufacturers to meet these requirements are described below. FMVSS No. 404 requires manufacturers or alterers that install platform lifts to insert the instructions provided by the lift manufacturer into the vehicle owners' manuals and ensure that labels with lift operating procedures are affixed to a location adjacent to the controls.

Description of the Need for the Information and Proposed Use of the Information: The information is used by:

• Platform lift installers so that they can ensure the correct type of lift—either public-use or private-use—is installed and has the necessary weight capacity, and that lifts are correctly installed and equipped with the minimum required lighting;

• Operators of public-use lifts so they have access to explanatory labels on lift controls and are aware of the lift operating capacity and maintenance requirements;

• Private-use lift owners so that they have access to explanatory labels on lift controls and are aware of the lift operating capacity and maintenance requirements.

Affected Public: Platform lift manufacturers and vehicle manufacturers or alterers that install platform lifts in motor vehicles prior to first vehicle sale. There is no burden on the general public.

Estimated Number of Respondents: 10.

NHTSA estimates that there are 10 platform-lift manufacturers doing business at a given time. Platform-lift manufacturers typically have a design cycle of approximately 5 years. Therefore, there are aspects of the information collection that only require the manufacturers to incur burden once every 5 years, such as changing the owner's manual inserts and labels. However, other aspects of the information collection, such as printing the inserts and labeling the lifts, require manufacturers to incur burden every year.

Estimated Number of Responses: 27,398 lifts manufactured in each of the next three years.

Estimated Total Annual Burden Hours: 1,562 hours.

NHTSA estimates that a total of 10 lift manufacturers will incur 1,562 hours of burden annually. This estimate is comprised of time to make changes to required language and the time to distribute that information by affixing labels or placards, placing inserts into owners' manuals, and providing installation instructions.

NHTSA estimates that every year approximately two lift manufacturers will need to change the language of the insert for the vehicle owners' manual stating the lift's platform operating volume, maintenance schedule, and operating procedures. NHTSA estimates that it will take manufacturers approximately 24 hours to make those changes. Therefore, NHTSA estimates that changes to the owners' manual inserts will take 48 hours annually (2 manufacturers × 24 hours = 48 hours per year).

NHTSA estimates that every year approximately two manufacturers will need to change the installation instructions identifying the types of vehicles on which each lift is designed to be installed. NHTSA estimates that it will take manufacturers approximately 24 hours to make those changes. Therefore, NHTSA estimates that changes to the installation instructions will take 48 hours annually(2 manufacturers × 24 hours = 48 hours per year).

NHTSA estimates that every year approximately two manufacturers will need to make changes to labels or placards which identify the operating functions of the lift. NHTSA estimates that it will take manufacturers approximately 24 hours to make those changes. Therefore, NHTSA estimates that changes to the labels or placards for lift functions will take 48 hours annually (2 manufacturers × 24 hours = 48 hours per year).

NHTSA estimates that every year approximately two lift manufacturers will need to make changes to labels and placards detailing back-up operating procedures. NHTSA estimates that it will take manufacturers approximately 24 hours to make those changes. Therefore, NHTSA estimates that changes to the language of labels or placards for back-up operating procedures will take 48 hours annually (2 manufacturers × 24 hours = 48 hours per year).

In addition to making periodic changes to the wording of the owners' manual inserts, installation instructions, and labels or placards for lift operating procedures and back-up operation; lift manufacturers also incur burden associated with distributing that information by affixing labels or placards, placing inserts into owners' manuals, and providing installation instructions.

NHTSA estimates that there will be 27,398 lifts manufactured in each of the next three years. NHTSA estimates that distributing the required information will take approximately 3 minutes per lift or approximately 1,370 hours for all lifts annually (27,398 lifts × 3 minutes per lift = 82,194 minutes; 82,194 minutes ÷ 60 = 1,370 hours).

| Lift manufacturers | Hours to make change | Annual hours
Per Year Insert Language: | 2 | 24 | 48
Per Year Install Instruct.: | 2 | 24 | 48
Per Year Label Change/Operating: | 2 | 24 | 48
Per Year Label Change/Back-up: | 2 | 24 | 48
| Lifts-each year next 3 years | Mins. to distribute | Total hours
Distribution | 27,398 | 3 | 1,370
| Estimated Total Burden Hours: |  | 1,562

The labor cost associated with the burden hours is derived by applying appropriate hourly labor rates published by the Bureau of Labor Statistics ¹ (BLS) to the hourly burden discussed previously in this notice. There are two categories of labor involved. First, for “Assemblers and Fabricators” (Occupation code 51-2000) with an average wage of $22.94/hour, the labor rate is $32.72/hour (based on BLS statistics showing wages for private industry workers are 70.1 percent of total compensation ²). Multiplying that hourly labor rate, by the estimated 1,370 labor hours needed annually to affix and distribute the required informational materials, yields an annual labor cost of $44,832.81. Second, for “Technical Writers” (Occupation code 27-3042) with an average wage of $33.98/hour, the labor rate is $47.47/hour. Multiplying that hourly labor rate, by the estimated 192 labor hours needed for revisions to labels and printed materials, yields an annual labor cost of $9,306.93.

¹ Available online at https://www.bls.gov/oes/current/naics4_336100.htm.

² See Table 1 at https://www.bls.gov/news.release/pdf/ecec.pdf.

The total annual labor cost is thus estimated to be $54,139.74.

| Average wage | Percent of total compensation | Labor rate | Annual hours | Annual labor cost
Assemblers and Fabricators: | $22.94 | 70.1 | $32.72 | 1,370 | $44,832.81
Technical Writers: | 33.98 | 70.1 | 48.47 | 192 | 9,306.93
| Estimated Annual Labor Cost for This Information Collection: |  |  |  | 54,139.74

Estimated Total Annual Burden Cost: The cost of this collection of information will include printing costs. NHTSA's estimate of printing costs is broken down as follows:

Owner's manual inserts—27,398 lifts × $0.04 per page × 1 page = $1,095.92

Installation instructions—27,398 lifts × $0.04 per page × 1 page = $1,095.92

Label/placard for lift operating procedures—27,398 lifts × $0.13 per label = $3,561.74

Label/placard for lift backup operation—27,398 lifts × $0.13 per label = $3,561.74

Based on this breakdown, NHTSA estimates the total printing cost associated with this information collection is $9,315.32 annually.

| Lifts-each year in next 3 years | Per unit | Total cost
Owner's Manual Insert: | 27,398 | $0.04 | $1,095.92
Install Instructions: | 27,398 | 0.04 | 1,095.92
Label Change/Operating Procedure: | 27,398 | 0.13 | 3,561.74
Label Change/Back-up Operation: | 27,398 | 0.13 | 3,561.74
Estimated Annual Printing Cost for This Information Collection: | 9,315.32

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on respondents, including the use of appropriate automated, electronic, mechanical, or other technological collection techniques or other forms of information technology, e.g. permitting electronic submission of responses.

Authority: The Paperwork Reduction Act of 1995; 44 U.S.C. Chapter 35; as amended; 49 CFR 1.49; and DOT Order 1351.29.

Raymond R. Posten,
Associate Administrator for Rulemaking.

[FR Doc. 2021-21198 Filed 9-29-21; 8:45 am]

BILLING CODE 4910-59-P